DEPARTMENT OF HEALTH AND HUMAN SERVICES

Centers for Disease Control and Prevention

[60Day-05AF]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-498-1210 or send comments to Sandi Gambescia, CDC Assistant Reports Clearance Officer, 1600 Clifton Road, MS-E11, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

How Miners Modify Their Behavior In Response To Personal Dust Monitor Information—New—National Institute for Occupational Safety and Health (NIOSH), Centers for Disease Control and Prevention (CDC).

The Federal Mine Safety and Health Act of 1977, section 501, enables CDC/NIOSH to carry out research relevant to the health and safety of workers in the mining industry. The objective of this project is to document how coal miners can use real-time information from their personal dust monitors (PDM) to reduce their exposure to respirable dust. The specific aims are to (1) identify several specific examples of how miners use PDM information to discover which parts of their jobs and/or which aspects of their work environment may be causing them to be overexposed to respirable dust, and (2) identify the types of changes that miners could make in order to try to reduce their exposure. Although the most recent data on the prevalence of Coal Workers' Pneumoconiosis (CWP) in the United States indicates that it is declining, substantial numbers of CWP cases continue to be diagnosed. In recent years, CWP has contributed to the deaths of approximately 1,000 people in the U.S. each year.

A personal dust monitor (PDM) has recently been developed through a collaboration involving NIOSH, the Bituminous Coal Operators' Association, the United Mine Workers of America, the National Mining Association, and Rupprecht & Patashnick Co., Inc. This new device represents a major advance in the tools available for assessing coal miners' exposure to respirable dust levels. It will soon be field tested with coal miners throughout the U.S. As with the introduction of any new technology, it is very important to systematically document how workers react to it and make use of it. If miners know how to properly use the information PDMs are capable of providing, they should be able to make adjustments to their work place or work procedures that will reduce their exposure to respirable coal dust.

Various parties have speculated about the processes by which miners will use the information to reduce their exposure to respirable dust. There appears to be great potential. However, no one knows precisely how miners performing a wide variety of tasks and jobs are actually going to use this new information to reduce their exposure to dust. It is assumed that, once PDMs are introduced, miners will eventually find new ways to reduce their exposure to dust. Once these discoveries are made, they need to be documented and shared throughout the industry. The diffusion of this innovation will occur much more rapidly and efficiently if this proposed study takes place. Effective strategies for using PDM information will be well documented and quickly shared throughout the coal industry. The alternative is to wait for the miners at each of the 439 actively producing coal mines in the U.S. to go through their own trial and error process of discovering how PDMs can and cannot be used to reduce dust exposure. The proposed study will help to significantly reduce the incidence of lung disease among coal miners, leading to improvements in their longevity and quality of life. The information for this study will be collected by conducting one-on-one structured interviews with approximately 20 miners at each of 5 mines located throughout the major coal producing regions of the U.S. This survey will last 2 years. There will be no cost to respondents except their time to participate.

Respondents | Number of respondents | Number of responses per respondent | Average burden per response (in hours) | Total burden (in hours)
Coal Miners | 100 | 1 | 30/60 | 50
Total |  |  |  | 50

Dated: November 17, 2004.
B. Kathy Skipper,
Acting Director, Management Analysis and Services Office, Centers for Disease Control and Prevention.

[FR Doc. 04-26022 Filed 11-23-04; 8:45 am]

BILLING CODE 4163-18-P